ENVIRONMENTAL PROTECTION AGENCY

[ER-FRL-8586-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080240, ERP No. D-BLM-A09825-00, PROGRAMMATIC—Geothermal Leasing in the Western United States.

Summary: EPA expressed environmental concerns about impacts to air quality, groundwater and noise. Rating EC2.

Final EISs

EIS No. 20080275, ERP No. F-NOA-L39066-WA, ADOPTION—Fish Passage and Aquatic Habitat Restoration at Hemlock Dam, Implementation, Gifford Pinchot National Forest, Mount Adams District, Skamania County, WA.

Summary: No comment letter sent to the federal agency.

EIS No. 20080295, ERP No. F-FHW-C40171-NY, NYS Route 17 at Exit 122 Interchange Project, To Improve the Safety and Operation, Right-of-Way Acquisition, Town of Wallkill, Orange County, NY.

Summary: EPA continues to have environmental concerns about wetland, water quality, and air quality impacts.

EIS No. 20080300, ERP No. F-BLM-K65296-AZ, Agua Fria National Monument and Bradshaw-Harquahala, Proposed Resource Management Plan, Implementation, Yavapai County, AZ.

Summary: EPA does not object to the proposed project.

EIS No. 20080308, ERP No. F-SFW-L61233-WA, Hanford Reach National Monument Comprehensive Conservation Plan, Management of Monument Resources, Programs and Visitors for the Next 15 Years, Adams, Benton, Franklin and Grant Counties, WA.

Summary: No formal comment letter was sent to the preparing agency.

Dated: September 23, 2008.
Robert W. Hargrove,
Director, NEPA Compliance Division, Office of Federal Activities.

[FR Doc. E8-22681 Filed 9-25-08; 8:45 am]

BILLING CODE 6560-50-P